DEPARTMENT OF THE INTERIOR

Bureau of Land Management

[AZ-030-1610-HN]

Notice of Intent To Amend the Kingman Resource Management Plan

AGENCY: Bureau of Land Management.

ACTION: Notice of Intent.

SUMMARY: Pursuant to the Federal Land Policy and Management Act and the National Environmental Policy Action of 1969, the Bureau of Land Management, Kingman Field Office, Arizona will be preparing an Environmental Assessment-level amendment to the Kingman Resource Management Plan. The plan amendment will assess impacts of proposed changes to land tenure classification and management of federal lands in Mohave County in western Arizona. It is proposed to change 478.11 acres of land classified as available for Recreation and Public Purpose uses to a classification of available for disposal, that is conveyance out of public ownership through exchange.

DATES: Written comments will be accepted until July 24, 2000.

ADDRESSES: Comments should be sent to Bureau of Land Management, Kingman Field Office, 2475 Beverly Avenue, Kingman, Arizona, 86401.

FOR FURTHER INFORMATION CALL: Don McClure, (520) 692-4400.

SUPPLEMENTARY INFORMATION: The proposed plan amendment is in the area of the community of Golden Valley. The BLM is considering a land exchange where approximately 15,000 acres of public lands that were classified for disposal would be conveyed into private ownership in the Golden Valley area north west of Kingman, AZ. The public would acquire approximately 18,000 acres to be managed by BLM, southeast of Kingman, AZ.

The proponent for the land exchange expressed interest in acquiring section 31 of Township 22N, Range 18 West (636.36 acres) that was classified for Recreation and Public Purposes. This section is adjacent to lands that are classified as available for disposal and are being considered in the land exchange. It is proposed to change 478.11 acres of land classified as available for Recreation and Public Purpose uses to a classification of available for disposal; that is conveyance out of public ownership through exchange. The remainder of the section, 158.25 acres, the Lots 3, 4, E25W of Section 31 T22N, R18W, would remain classified for Recreation and Public Purposes.

This proposed modification to the Kingman Resource Management Plan will be integrated with the proposed Cane Springs land exchange, and the impact thereof will be presented in a single EA-level analysis. The EA currently is being prepared and a fact sheet on the Cane Springs land exchange has been mailed to approximately 160 persons or agencies. The fact sheet is available upon request.

The issues that will be addressed by the plan amendment include the following; is 158.25 acres enough land for Recreation and Public Purpose uses in this area of Golden Valley and what is the proposed use of the land that would be conveyed into private ownership?

The following criteria are proposed to guide the resolution of the issues: actions must comply with laws, executive orders, and regulations; consider the long term benefits to the public in relation to short term benefits; be reasonable and achievable; use an interdisciplinary approach to land management.

Public Input Requested: Comments should address issues to be considered, if the planning criteria are adequate for the issues, feasible and reasonable alternatives to examine, and relevant information on the EA-level plan amendment.

John R. Christensen,
Field Manager, Kingman Field Office.

[FR Doc. 00-15180 Filed 6-22-00; 8:45 am]

BILLING CODE 4310-22-P